ENVIRONMENTAL PROTECTION AGENCY

40 CFR Part 52

[CA261-0344a; FRL-7227-6]

Revisions to the California State Implementation Plan, San Joaquin Valley Unified Air Pollution Control District

AGENCY: Environmental Protection Agency (EPA).

ACTION: Direct final rule.

SUMMARY: EPA is taking direct final action to approve revisions to the San Joaquin Valley Unified Air Pollution Control District (SJVUAPCD) portion of the California State Implementation Plan (SIP). These revisions concern volatile organic compound (VOC) emissions from motor vehicle and mobile equipment, can and coil, and wood products coating operations, as well as, VOC emissions from graphic arts and polyester resin operations. We are approving local rules that regulate these emission sources under the Clean Air Act as amended in 1990 (CAA or the Act).

DATES: This rule is effective on August 26, 2002, without further notice, unless EPA receives adverse comments by July 26, 2002. If we receive such comment, we will publish a timely withdrawal in the Federal Register to notify the public that this rule will not take effect.

ADDRESSES: Mail comments to Andy Steckel, Rulemaking Office Chief (AIR-4), U.S. Environmental Protection Agency, Region IX, 75 Hawthorne Street, San Francisco, CA 94105-3901.

You can inspect copies of the submitted SIP revisions and EPA's technical support documents (TSDs) at our Region IX office during normal business hours. You may also see copies of the submitted SIP revisions at the following locations:

Environmental Protection Agency, Air Docket (6102), Ariel Rios Building, 1200 Pennsylvania Avenue, NW., Washington DC 20460;

California Air Resources Board, Stationary Source Division, Rule Evaluation Section, 1001 “I” Street, Sacramento, CA 95814; and,

San Joaquin Valley Unified Air Pollution Control District, 1990 East Gettysburg Street, Fresno, CA 93726.

FOR FURTHER INFORMATION CONTACT: Jerald S. Wamsley, Rulemaking Office (AIR-4), U.S. Environmental Protection Agency, Region IX, (415) 947-4111.

SUPPLEMENTARY INFORMATION: Throughout this document, “we,” “us” and “our” refer to EPA.

Table of Contents

I. The State's Submittal

A. What rules did the State submit?

B. Are there other versions of these rules?

C. What is the purpose of the submitted rule revisions?

II. EPA's Evaluation and Action

A. How is EPA evaluating the rules?

B. Do the rules meet the evaluation criteria?

C. EPA recommendations to further improve the rules

D. Public comment and final action

III. Background information

A. Why were these rules submitted?

IV. Administrative Requirements

I. The State's Submittal

A. What rules did the State submit?

Table 1 lists the rules we are approving with the dates that they were adopted by the SJVUAPCD and submitted by the California Air Resources Board (CARB).

Table 1.—Submitted Rules
Local agency | Rule No. | Rule title | Adopted | Submitted
SJVUAPCD | 4602 | Motor Vehicle and Mobile Equipment Coating Operations | 12/20/01 | 02/20/02
SJVUAPCD | 4604 | Can and Coil Coating Operations | 12/20/01 | 02/20/02
SJVUAPCD | 4606 | Wood Products Coating Operations | 12/20/01 | 02/20/02
SJVUAPCD | 4607 | Graphic Arts | 12/20/01 | 02/20/02
SJVUAPCD | 4684 | Polyester Resin Operations | 12/20/01 | 02/20/02

On March 15, 2002, these rule submittals were found to meet the completeness criteria in 40 CFR part 51 Appendix V, which must be met before formal EPA review.

B. Are there other versions of these rules?

We approved earlier versions of the above listed rules into the SIP on the following dates: Rule 4602, November 13, 1998; Rule 4604, November 18, 1994; Rule 4606, March 22, 2000; Rule 4607, November 13, 1998; and, Rule 4684, June 13, 1995. Between these SIP incorporations and today, CARB made no intervening submittals of these rules.

C. What is the purpose of the submitted rule revisions?

The majority of changes to these rules result from adding organic solvent use, disposal, and storage requirements. The changes related to these additions are listed below. Other individual rule changes are discussed following this review.

—Each rule's purpose and applicability statements were changed to include organic solvent cleaning as well as the storage and disposal of organic solvents and waste solvent materials derived from coating operations subject to the rule.

—Many new definitions were added to each rule. Please see the TSD and attached change copy of a given rule to examine specific definitions.

—An exemption for stripping cured coating, adhesives, and inks was added. However, the rule requirements still apply to cured coatings, adhesives, and inks used in spray application equipment.

—Where they exist, Evaporative Loss Minimization requirements will be removed as of November 14, 2002 to be replaced by Organic Solvent Cleaning, Storage, and Disposal Requirements. These solvent cleaning, storage and disposal requirements are added to each rule regardless of the status of the Evaporative Loss Minimization provisions.

—Recordkeeping requirements for cleaning solvents were added. Also, records must be retained for 5 years.

—Solvent compliance statement requirements were added.

Rule 4602 included the following significant changes to its 1998 SIP approved version.

—Compliance via add-on controls is allowed so long as it is equivalent to the coating content requirements of the rule.

—High Volume Low Pressure spray application requirements were defined.

—Alternative coating application methods are allowed provided they meet a 65% transfer efficiency requirement.

—Test methods for determining transfer efficiency were added.

—Where multiple test methods are listed, a violation of any requirement of the rule can be determined by any test method given.

Rule 4604 included the following significant changes to its 1994 SIP-approved version.

—An exemption has been added for lubricants used in the can manufacturing process.

—Recordkeeping for emission control system was added.

—Test methods for determining VOC content, capture efficiency, and destruction efficiency were updated.

—Test methods for detemining vapor pressure were added.

—Test methods for determining solvent losses from spray gun cleaning systems were added.

—Outdated compliance schedules were removed.

SJVUAPCD's December 20, 2001 amendments to Rule 4606 included the following significant changes to its 2000 SIP approved version.

—The 20 gallons of coating per year exemption was changed to include all wood product coating operations at a stationary source.

—High Volume Low Pressure spray application requirements were defined.

—Exempt sources using less than 20 gallons of coating per year may keep monthly records.

—Test methods for determining capture destruction efficiency were updated.

—Test methods for detemining vapor pressure were added.

SJVUAPCD's December 20, 2001 amendments to Rule 4607 included the following significant changes to its 1998 SIP approved version.

—Fine arts painting was exempted.

—An exemption for cleaning operations in pre-press areas was added.

—High Volume Low Pressure spray application requirements were added.

—Test methods for determining capture efficiency, coating viscosity, and destruction efficiency were updated. Test methods were added for determining vapor pressure.

SJVUAPCD's December 20, 2001 amendments to Rule 4684 included the following significant changes to its 1995 SIP approved version.

—High Volume Low Pressure spray application requirements were added.

—Sections concerning cleaning material and storage and disposal requirements will be removed as of November 14, 2002 to be replaced by solvent cleaning, storage, and disposal requirements.

—Where more than one test method is specified for determining compliance, a violation as determined by any one method constitutes a violation of the rule.

The TSD for a given rule has more information about these rule revisions.

II. EPA's Evaluation and Action

A. How is EPA evaluating the rules?

Generally, SIP rules must be enforceable (see section 110(a) of the Act), must require Reasonably Available Control Technology (RACT) for major sources in nonattainment areas (see section 182(a)(2)(A)), and must not relax existing requirements (see sections 110(l) and 193). The SJVUAPCD regulates an ozone nonattainment area (see 40 CFR part 81), so these rules must fulfill RACT.

Guidance and policy documents that we used to help evaluate specific enforceability and RACT requirements consistently include the following:

—Portions of the proposed post-1987 ozone and carbon monoxide policy that concern RACT, 52 FR 45044, November 24, 1987.

—“Issues Relating to VOC Regulation Cutpoints, Deficiencies, and Deviations; Clarification to Appendix D of November 24, 1987 Federal Register Notice,” (Blue Book), notice of availability published in the May 25, 1988 Federal Register.

—“National Volatile Organic Compound Emission Standards for Automobile Refinish Coatings,” at 40 CFR part 59, Subpart B. However, these standards apply to the manufacture of auto refinishing coatings and not to their application. Consequently, these Subpart B standards are not binding on body shops and auto painters. So, EPA is using these standards, California's “Determination of Reasonably Available Control Technology (RACT) and Best Available Retrofit Control Technology (BARCT) for Automotive Refinishing Operations,” and other California air district auto refinishing rules to advise our review of Rule 4602. Along with these guidance documents, EPA used subsequent agency policy memoranda and guidance to evaluate Rule 4602.

—“Control of Volatile Organic Emissions from Existing Stationary Sources Volume II: Surface Coating of Cans, Coils, Paper, Fabrics, Automobiles, and Light Duty Trucks,” USEPA, May 1977, EPA-450/2-77-008.

—“Guideline Series: Control of Volatile Organic Compound Emissions from Wood Furniture Manufacturing Operations,” USEPA, April, 1996.

—“Control of Volatile Organic Emissions from Existing Stationary Sources Volume VIII: Graphic Arts—Rotogravure and Flexography,” USEPA, December 1978, EPA-450/2-78-033. A second draft CTG was published along with a companion Alternative Control Technique (ACT) document:

“Guideline Series, Control of Volatile Organic Compound Emissions from Offset Lithographic Printing,” Draft. USEPA, OAQPS, September 1993; and “Alternative Control Techniques Document: Offset Lithographic Printing,” USEPA, OAQPS, June 1994, EPA 453/R-94-054.

B. Do the rules meet the evaluation criteria?

We believe these rules are consistent with the relevant policy and guidance regarding enforceability, RACT, and SIP relaxations. The TSD has more information on our evaluation.

C. EPA Recommendations to Further Improve the Rules.

For Rules 4602, 4606, and 4607, the respective TSD describes additional rule revisions that do not affect EPA's current action but are recommended for the next time the local agency modifies the rules.

D. Public comment and final action

As authorized in section 110(k)(3) of the Act, EPA is fully approving the submitted rules because we believe they fulfill all relevant requirements. We do not think anyone will object to this approval, so we are finalizing it without proposing it in advance. However, in the Proposed Rules section of this Federal Register, we are simultaneously proposing approval of the same submitted rules. If we receive adverse comments by July 26, 2002, we will publish a timely withdrawal in the Federal Register to notify the public that the direct final approval will not take effect and we will address the comments in a subsequent final action based on the proposal. If we do not receive timely adverse comments, the direct final approval will be effective without further notice on August 26, 2002. This will incorporate these rules into the federally enforceable SIP.

Please note that if EPA receives any adverse comment on an amendment, paragraph, or section of this rule and if that provision may be severed from the remainder of the rule, EPA may adopt as final those provisions of the rule that are not the subject of an adverse comment.

III. Background Information

A. Why were these rules submitted?

VOCs help produce ground-level ozone and smog, which harm human health and the environment. Section 110(a) of the CAA requires states to submit regulations that control VOC emissions. Table 2 lists some of the national milestones leading to the submittal of these local agency VOC rules.

Table 2.—Ozone Nonattainment Milestones
Date | Event
March 3, 1978 | EPA promulgated a list of ozone nonattainment areas under the Clean Air Act as amended in 1977. 43 FR 8964; 40 CFR 81.305.
May 26, 1988 | EPA notified Governors that parts of their SIPs were inadequate to attain and maintain the ozone standard and requested that they correct the deficiencies (EPA's SIP-Call). See section 110(a)(2)(H) of the pre-amended Act.
November 15, 1990 | Clean Air Act Amendments of 1990 were enacted. Pub. L. 101-549, 104 Stat. 2399, codified at 42 U.S.C. 7401-7671q.
May 15, 1991 | Section 182(a)(2)(A) requires that ozone nonattainment areas correct deficient RACT rules by this date.

IV. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045, “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by August 26, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Incorporation by reference, Intergovernmental relations, Ozone, Reporting and recordkeeping requirements, Volatile organic compounds.

Dated: May 22, 2002.
Keith Takata,
Associate Regional Administrator, Region IX.

Part 52, Chapter I, Title 40 of the Code of Federal Regulations is amended as follows:

PART 52—[AMENDED]

1. The authority citation for Part 52 continues to read as follows:

Authority: 42 U.S.C. 7401 et seq.

Subpart F—California

2. Section 52.220 is amended by adding paragraph (c)(294)(i)(A)(3) to read as follows:

§ 52.220 Identification of plan.

* * * * *

(c) * * *

(294) * * *

(i) * * *

(A) * * *

(3) Rule 4602 adopted on April 11, 1991 and amended on December 20, 2001; Rule 4604 adopted on April 11, 1991 and amended on December 20, 2001; Rule 4606 adopted on December 19, 1991 and amended on December 20, 2001; Rule 4607 adopted on April 11, 1991 and amended on December 20, 2001; and, Rule 4684 adopted on May 19, 1994 and amended on December 20, 2001.

* * * * *

[FR Doc. 02-16033 Filed 6-25-02; 8:45 am]

BILLING CODE 6560-50-P